INTERNATIONAL TRADE COMMISSION

[Investigation No. 337-TA-977]

Certain Arrowheads With Deploying Blades and Components Thereof and Packaging Therefor; Institution of Investigation

AGENCY: U.S. International Trade Commission.

ACTION: Notice.

SUMMARY: Notice is hereby given that a complaint was filed with the U.S. International Trade Commission on November 17, 2015, under section 337 of the Tariff Act of 1930, as amended, 19 U.S.C. 1337, on behalf of FeraDyne Outdoors LLC of Cartersville, Georgia and Out RAGE LLC of Cartersville, Georgia. A supplement was filed on December 4, 2015. The complaint, as supplemented, alleges violations of section 337 based upon the importation into the United States, the sale for importation, and the sale within the United States after importation of certain arrowheads with deploying blades and components thereof and packaging therefor by reason of infringement of certain claims of U.S. Patent No. RE44,144 (“the '144 patent”); U.S. Patent No. 6,517,454 (“the '454 patent”); U.S. Patent No. 8,758,176 (“the '176 patent”); U.S. Patent No. 8,986,141 (“the '141 patent”); U.S. Patent No. 9,068,806 (“the '806 patent”); U.S. Patent No. 7,771,298 (“the '298 patent”); U.S. Patent No. D710,962 (“the D'962 patent”); U.S. Patent No. D711,489 (“the D'489 patent”); and of U.S. Trademark Registration No. 4,812,058 (“the '058 mark”). The complaint further alleges that an industry in the United States exists as required by subsection (a)(2) of section 337.

The complainants request that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2015).

Scope of Investigation: Having considered the complaint, the U.S. International Trade Commission, on December 16, 2015, ordered that—

(1) Pursuant to subsection (b) of section 337 of the Tariff Act of 1930, as amended, an investigation be instituted to determine:

(a) Whether there is a violation of subsection (a)(1)(B) of section 337 in the importation into the United States, the sale for importation, or the sale within the United States after importation of certain arrowheads with deploying blades and components thereof and packaging therefor by reason of infringement of one or more of claims 38, 42, 48, 68, and 75 of the '144 patent; claims 1-3, 5, and 8 of the '454 patent; claims 1 and 3 of the '176 patent; claims 1 and 8 of the '141 patent; claims 1 and 3 of the '806 patent; claims 1, 5, and 10 of the '298 patent; the claim of the D'962 patent; and the claim of the D'489 patent, and whether an industry in the United States exists as required by subsection (a)(2) of section 337;

(b) whether there is a violation of subsection (a)(1)(C) of section 337 in the importation into the United States, the sale for importation, or the sale within the United States after importation of certain arrowheads with deploying blades and components thereof and packaging therefor by reason of infringement of the '058 mark, and whether an industry in the United States exists as required by subsection (a)(2) of section 337;

(2) For the purpose of the investigation so instituted, the following are hereby named as parties upon which this notice of investigation shall be served:

(a) The complainants are:

FeraDyne Outdoors LLC, 110 Beasley Road, Cartersville, Georgia 30120

Out RAGE LLC, 110 Beasley Road, Cartersville, Georgia 30120

(b) The respondents are the following entities alleged to be in violation of section 337, and are the parties upon which the complaint is to be served:

Linyi Junxing Sports Equipment Co., Ltd. (Northwest Corner of Lihang) Lihang, Industrial Park, Lanshan District, Linyi, Shandong, China 276000

Ningbo Faith Sports Co., Ltd., No. 315 Yuelin Street, 55 Baofeng Road East, East Suburb Development Zone, Fenghua, Ningbo, Zhejiang, China 315500

Ningbo Forever Best Import & Export Co. Ltd., Bldg. A1, Phase 1, Chuangye Park, Economic Development Zone, Yixing, Jiangsu, China 214213

Ningbo Linkboy Outdoor Sports Co., Ltd., B1, 599 Qiming Road, Xiaying Town, Yinzhou District, Ningbo, Zhejiang, China 315000

Shenzhen Zowaysoon Trading Company Ltd., Room 1309, Jiangshi Building, Xintian Road, Xintian Community, Fuyong St., Baoan Area, Shenzhen, China 518100

Xiamen Xinhongyou Industrial Trade Co. Ltd., No. 100, Qianzhaili, Pantu, Xike, Tong'an Dist., Xiamen, Fujian, China 361100

Xiamen Zhongxinyuan Industry & Trade Ltd., 3F, No. 68, Xihu Xincun, Xihu Community, Xianping Street, Tongan District, Xiamen, Fujian, China 361111

Zhengzhou IRQ Trading Limited Company, Room 2402, 24th Floor, Building 1# No. 40, Taoyuan Road, Erqi District Zhengzhou, Henan, China 450000

Zhengzhou Paiao Trade Co., Ltd., No. 602, Floor 6, Bldg. 3, South Hanghai Rd., West Gongren Rd., Zhongyuan Area, Zhengzhou, Henan, China 450000

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 17, 2015.
Lisa R. Barton,
Secretary to the Commission.

[FR Doc. 2015-32087 Filed 12-21-15; 8:45 am]

BILLING CODE 7020-02-P